Nuclear Regulatory Commission

10 CFR Parts 40, 70, 72, 74, and 150

[NRC-2013-0195]

RIN 3150-AI61

Proposed Guidance for Fuel Cycle Facility; Material Control and Accounting Plans and Completing NRC Form 327

AGENCY: Nuclear Regulatory Commission.

ACTION: Draft NUREGs; request for comment.

SUMMARY: The U.S. Nuclear Regulatory Commission (NRC) is making available for public comment the following draft NUREGs: NUREG-1280, Revision 2, “Acceptable Standard Format and Content for the Material Control and Accounting (MC&A) Plan Required for Strategic Special Nuclear Material;” NUREG-2159, “Acceptable Standard Format and Content for the Material Control and Accounting (MC&A) Plan Required for Special Nuclear Material of Moderate Strategic Significance;” NUREG-1065, Revision 3, “Acceptable Standard Format and Content for the Material Control and Accounting (MC&A) Plan Required for Special Nuclear Material of Low Strategic Significance;” NUREG-2158 (formerly NUREG/CR-5734), “Acceptable Standard Format and Content for the Material Control and Accounting (MC&A) Plan Required for Low Enriched Uranium Enrichment Facilities;” and NUREG/BR-0096, Revision 2, “Instructions and Guidance for Completing Physical Inventory Summary Reports.” The NUREGs support a proposed rule (RIN 3150-AI61; NRC-2009-0096) amending the NRC's MC&A regulations applicable to various types of special nuclear material (SNM). The proposed rule is being published in the Proposed Rule section of this issue of the Federal Register.

DATES: Submit comments by February 18, 2014. Comments received after this date will be considered if it is practical to do so, but the NRC staff is able to ensure consideration only for comments received on or before this date.

ADDRESSES: You may submit comments by any of the following methods (unless this document describes a different method for submitting comments on a specific subject):

• Federal Rulemaking Web site: Go to http://www.regulations.gov and search for Docket ID NRC-2013-0195. Address questions about NRC dockets to Carol Gallagher; telephone: 301-287-3422; email: Carol.Gallagher@nrc.gov. For technical questions, contact the individual listed in the FOR FURTHER INFORMATION CONTACT section of this document.

• Mail comments to: Cindy Bladey, Chief, Rules, Announcements, and Directives Branch (RADB), Office of Administration, Mail Stop: 3WFN-06A-44MP, U.S. Nuclear Regulatory Commission, Washington, DC 20555-0001.

For additional direction on accessing information and submitting comments, see “Accessing Information and Submitting Comments” in the SUPPLEMENTARY INFORMATION section of this document.

FOR FURTHER INFORMATION CONTACT: Thomas Pham, Office of Nuclear Material Safety and Safeguards, U.S. Nuclear Regulatory Commission, Washington, DC 20555-0001; telephone: 301-287-9132, email: Tom.Pham@nrc.gov.

SUPPLEMENTARY INFORMATION:

I. Accessing Information and Submitting Comments

A. Accessing Information

Please refer to Docket ID NRC-2013-0195 when contacting the NRC about the availability of information regarding this notice. You may access publicly available information by any of the following methods:

• Federal Rulemaking Web site: Go to http://www.regulations.gov and search for Docket ID NRC-2013-0195.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in Section III, “Availability of Documents,” of this document.

• NRC's PDR: You may examine and purchase copies of public documents at the NRC's PDR, Room O1-F21, One White Flint North, 11555 Rockville Pike, Rockville, Maryland 20852.

B. Submitting Comments

Please include Docket ID NRC-2013-0195 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Draft NUREGs 1280, 2159, and 1065 provide fuel cycle licensees (i.e., those authorized to hold strategic SNM, SNM of moderate strategic significance, and SNM of low strategic significance, respectively) guidance to facilitate compliance with applicable provisions in part 74 of Title 10 of the Code of Federal Regulations (10 CFR), “Material Control and Accounting of Special Nuclear Material.” Draft NUREG-2158 provides similar guidance to the subset of licensees authorized to hold SNM of low strategic significance who engage in uranium enrichment operations. Except for NUREG-2159—which is a new NUREG for any future licensees and applicants who may request authorization to hold SNM of moderate strategic significance—the NUREGs would revise existing guidance. The NUREGs are being revised to incorporate the proposed changes and enhancements to 10 CFR part 74.

Generally, the four draft guidance documents discuss acceptable methods licensees and applicants may use to prepare and implement their MC&A plans, and how the NRC will review and inspect these plans. Additionally, these four draft NUREGs address: (1) The proposed general performance objectives; (2) the proposed MC&A program capabilities to meet those objectives; and (3) the incorporation of checks and balances to detect falsification of data and reports that could conceal the theft or diversion of SNM. The SNM licensees can find instructions on the following in NUREG/BR-0096: (1) Using NRC Form 327 to report inventory differences (IDs) and (2) associated information needed to evaluate IDs. Such IDs may result from the physical inventories required by 10 CFR 74.31(c)(5), 74.33(c)(4), 74.43(c)(7), or 74.59(f). We are revising NUREG/BR-0096 to update and clarify its terms.

III. Availability of Documents

Document | ADAMS Accession No.
NUREG-1280, Revision 2, “Acceptable Standard Format and Content for the Material Control and Accounting (MC&A) Plan Required for Strategic Special Nuclear Material” | ML13253A308
NUREG-2159, “Acceptable Standard Format and Content for the Material Control and Accounting (MC&A) Plan Required for Special Nuclear Material of Moderate Strategic Significance” | ML13253A310
NUREG-1065, Revision 3, “Acceptable Standard Format and Content for the Material Control and Accounting (MC&A) Plan Required for Special Nuclear Material of Low Strategic Significance” | ML13253A305
NUREG-2158, (formerly NUREG/CR-5734) “Acceptable Standard Format and Content for the Material Control and Accounting (MC&A) Plan Required for Low Enriched Uranium Enrichment Facilities” | ML13253A309
NUREG/BR-0096, Revision 2, “Instructions and Guidance for Completing Physical Inventory Summary Reports” | ML13253A303

Dated at Rockville, Maryland, this September 17, 2013.
For the Nuclear Regulatory Commission.
Marissa G. Bailey,
Director, Division of Fuel Cycle Safety and Safeguards, Office of Nuclear Material Safety and Safeguards.

[FR Doc. 2013-25612 Filed 11-7-13; 8:45 am]

BILLING CODE 7590-01-P